DEPARTMENT OF COMMERCE

International Trade Administration

[A-570-895]

Antidumping Duty Order: Certain Crepe Paper From the People's Republic of China

AGENCY: Import Administration, International Trade Administration, Department of Commerce.

EFFECTIVE DATE: January 25, 2005.

FOR FURTHER INFORMATION CONTACT: Alex Villanueva at (202) 482-3208 or Hallie Noel Zink at (202) 482-6907; AD/CVD Operations, Office 9, Import Administration, International Trade Administration, U.S. Department of Commerce, 14th Street and Constitution Avenue NW., Washington, DC 20230.

SUPPLEMENTARY INFORMATION:

Scope of Order

For purposes of this order, the term “certain crepe paper” includes crepe paper products that have a basis weight not exceeding 29 grams per square meter prior to being creped and, if appropriate, flame-proofed. Crepe paper has a finely wrinkled surface texture and typically but not exclusively is treated to be flame-retardant. Crepe paper is typically but not exclusively produced as streamers in roll form and packaged in plastic bags. Crepe paper may or may not be bleached, dye-colored, surface-colored, surface decorated or printed, glazed, sequined, embossed, die-cut, and/or flame-retardant. Subject crepe paper may be rolled, flat or folded, and may be packaged by banding or wrapping with paper, by placing in plastic bags, and/or by placing in boxes for distribution and use by the ultimate consumer. Packages of crepe paper subject to this order may consist solely of crepe paper of one color and/or style, or may contain multiple colors and/or styles.

The merchandise subject to this order does not have specific classification numbers assigned to them under the Harmonized Tariff Schedule of the United States (“HTSUS”) . Subject merchandise may be under one or more of several different HTSUS subheadings, including: 4802.30; 4802.54; 4802.61; 4802.62; 4802.69; 4804.39; 4806.40; 4808.30; 4808.90; 4811.90; 4818.90; 4823.90; 9505.90.40. The tariff classifications are provided for convenience and customs purposes; however, the written description of the scope of this order is dispositive.

Antidumping Duty Order

On January 18, 2005, the International Trade Commission (the ITC) notified the Department of Commerce (the Department) of its final determination pursuant to section 735(b)(1)(A)(I) of the Tariff Act of 1930, as amended (the Act), that the industry in the United States producing crepe paper is materially injured by reason of less-than-fair-value imports of subject merchandise from the People's Republic of China (PRC). In addition, the ITC notified the Department of its final determination that critical circumstances do not exist with respect to imports of subject merchandise from the PRC that are subject to the Department's affirmative critical circumstances finding. Therefore, in accordance with section 736(a)(1) of the Act, the Department will direct U.S. Customs and Border Protection (CBP) to assess, upon further advice by the Department, antidumping duties equal to the amount by which the normal value of the merchandise exceeds the export price of the merchandise for all relevant entries of crepe paper from the PRC. These antidumping duties will be assessed on all unliquidated entries of crepe paper from the PRC entered, or withdrawn from the warehouse, for consumption on or after September 21, 2004, the date on which the Department published its Notice of Preliminary Determination of Sales at Less Than Fair Value, Affirmative Preliminary Determination of Critical Circumstances and Postponement of Final Determination: Certain Tissue Paper Products and Crepe Paper From the People's Republic of China (“Preliminary Determination”), 69 FR 56407 (Sep. 21, 2004).

With regard to the ITC negative critical circumstances determination, we will instruct Customs to lift suspension and to release any bond or other security, and refund any cash deposit made, to secure the payment of antidumping duties with respect to entries of the merchandise entered, or withdrawn from warehouse, for consumption on or after June 23, 2004, but before September 21, 2004. June 23, 2004, is 90 days prior to September 21, 2004, the date of publication of the Preliminary Determination in the Federal Register.

CBP must require, at the same time as importers would normally deposit estimated duties on this merchandise, a cash deposit equal to the estimated weighted-average antidumping duty margins noted below. The “PRC-Wide” rates apply to all exporters of subject merchandise not specifically listed.¹ The weighted-average dumping margins are as follows:

¹ In the Final Determination, the two mandatory respondents, Fuzhou Light and Magicpro, as well as Fujian Xinjifu, a Section A respondent who chose not to participate in verification, were assigned the PRC-Wide rate of 266.38 percent because they withdrew from the investigation, resulting in the Department's finding of total adverse facts available for both companies.

Manufacturer/exporter | Margin (percent)
Everlasting Business and Industry Co. Ltd | 266.83
Fujian Nanping Investment and Enterprise Co., Ltd | 266.83
Ningbo Spring Stationary Co., Ltd | 266.83
PRC-Wide Rate ² | 266.83

This notice constitutes the antidumping duty order with respect to crepe paper from the PRC, pursuant to section 736(a) of the Act. Interested parties may contact the Department's Central Records Unit, Room B-099 of the Main Commerce Building, for copies of an updated list of antidumping duty orders currently in effect.

² As stated in Footnote 1, Fuzhou Light and Magicpro were inadvertently identified as exporters in the “Final Determination of Investigation” section in the Final Determination with a rate of 266.83. Instead, Fuzhou Light and Magicpro should have been included in the PRC entity and assigned the PRC-wide rate of 266.83.

This order is published in accordance with section 736(a) of the Act and 19 CFR 351.211.

Dated: January 18, 2005.
Joseph A. Spetrini,
Acting Assistant Secretary for Import Administration.

[FR Doc. 05-1354 Filed 1-24-05; 8:45 am]

BILLING CODE 3510-DS-P